NUCLEAR REGULATORY COMMISSION

[Docket Nos. 50-271 and 50-305; NRC-2015-0200]

Vermont Yankee Nuclear Power Station; Kewaunee Power Station

AGENCY: Nuclear Regulatory Commission.

ACTION: 10 CFR 2.206 request; receipt.

SUMMARY: The U.S. Nuclear Regulatory Commission (NRC) is giving notice that by petition dated March 25, 2014 [sic], Mike Mulligan (the petitioner) has requested that the NRC take action with regard to the Vermont Yankee Nuclear Power Station (VY) and the Kewaunee Power Station (KPS), which have been permanently shut down and are currently undergoing decommissioning. The petitioner's requests are included in the SUPPLEMENTARY INFORMATION section of this document.

ADDRESSES: Please refer to Docket ID NRC-2015-0200 when contacting the NRC about the availability of information regarding this document. You may obtain publicly-available information related to this document using any of the following methods:

• Federal Rulemaking Web site: Go to http://www.regulations.gov and search for Docket ID NRC-2015-0200. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if that document is available in ADAMS) is provided the first time that a document is referenced.

• NRC's PDR: You may examine and purchase copies of public documents at the NRC's PDR, Room O1-F21, One White Flint North, 11555 Rockville Pike, Rockville, Maryland 20852.

FOR FURTHER INFORMATION CONTACT: Stephen S. Koenick, Office of Nuclear Reactor Regulation, U.S. Nuclear Regulatory Commission, Washington DC 20555-0001; telephone: 301-415-6631, email: Stephen.Koenick@nrc.gov.

SUPPLEMENTARY INFORMATION: On March 25, 2014 [sic], the petitioner requested that the NRC take action with regard to VY and KPS (ADAMS Accession No. ML15090A487). On July 7, 2015, the petitioner provided supplemental information via email (ADAMS Accession No. ML15198A091). The petitioner requested a number of actions including:

• Conduct exigent and immediate full-scale ultrasonic inspections on the VY and the KPS reactor pressure vessels (RPVs), with similar or better technology, as conducted on the RPVs at Doel 3 and Tihange 2, which revealed thousands of cracks;

• Take large borehole samples out of both the Vermont Yankee and Kewaunee RPVs and transport them to a respected metallurgic laboratory for comprehensive offsite testing;

• Issue an immediate NRC report and hold a public meeting on any identified vulnerabilities; and

• Ultrasonically test all RPVs in U.S. plants within 6 months, if distressed and unsafe results are discovered at VY or KPS.

As the basis for this request, the petitioner states that the requested actions should be taken to determine whether foreign operating experience—specifically several thousand cracks that have been discovered during testing on the Doel 3 and Tihange 2 RPVs—could have implications on U.S. operating reactors.

The request is being treated pursuant to section 2.206, “Requests for action under this subpart,” of Title 10 of the Code of Federal Regulations (10 CFR) of the Commission's regulations. The request has been referred to the Director of the Office of Nuclear Reactor Regulation.

The petitioner met with the Petition Review Board on May 19, 2015, to discuss the petition; the transcript of that meeting is an additional supplement to the petition (ADAMS Accession No. ML15181A127). The results of that discussion and the July 7, 2015, supplemental email were considered in the board's determination regarding the petitioner's request for immediate action and in establishing the schedule for the review of the petition.

The NRC has denied the petitioner's request to conduct immediate ultrasonic inspections at VY and KPS because of the following reasons. Both the identified facilities have ceased operations and would not be subject to an enforcement-related action (i.e., to modify, suspend, or revoke the license). In addition, the NRC issued Information Notice (IN) 2013-19, “Quasi-Laminar Indications in Reactor Pressure Vessel Forgings,” on September 22, 2013 (ADAMS Accession No. ML13242A263). The purpose of this IN was to inform industry of the quasi-laminar indications that were identified in 2012, at two European commercial nuclear power plants. These indications were identified during the ultrasonic inspections that were performed on the RPV forgings.

As provided by 10 CFR 2.206, appropriate action will be taken on the remaining requests within a reasonable time.

Dated at Rockville, Maryland, this 20th day of August 2015.
For the Nuclear Regulatory Commission.
Michele G. Evans,
Acting Director, Office of Nuclear Reactor Regulation.

[FR Doc. 2015-21431 Filed 8-27-15; 8:45 am]

BILLING CODE 7590-01-P